MEDICARE PAYMENT ADVISORY COMMISSION

Commission Meeting

AGENCY: Medicare Payment Advisory Commission.

ACTION: Notice of meeting.

SUMMARY: The Commission will hold its next public meeting on Thursday, April 22, 2004, and Friday, April 23, 2004, at the Ronald Reagan Building, International Trade Center, 1300 Pennsylvania Avenue, NW., Washington, DC. The meeting is tentatively scheduled to begin at 10 a.m. on April 22, and at 10 a.m. on April 23.

Topics for discussion include: long-term care hospitals; the Medicare hospice program; chronic care improvement for chronic kidney disease; beneficiaries' financial resources; private insurers' strategies for purchasing imaging and other services; prescription drug implementation issues; and the Medicare dual eligible population. The Commission will also discuss congressionally mandated reports on specialty hospitals, the usefulness of the IRS Form 990 in reporting on hospitals' access to capital, and an assessment of the strengths and weaknesses of available data to judge total financial circumstances of hospitals and other providers of Medicare services.

Agendas will be e-mailed approximately one week prior to the meeting. The final agenda will be available on the Commission's Web site (http://www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller.
Executive Director.

[FR Doc. 04-8334 Filed 4-12-04; 8:45 am]

BILLING CODE 6820-BW-M